DEPARTMENT OF AGRICULTURE

Submission for OMB Review; Comment Request

DATES: July 6, 2017.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW., Washington, DC 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by August 10, 2017. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: USDA Farmers Market Application.

OMB Control Number: 0581-0229.

Summary of Collection: The Agricultural Marketing Act of 1946 (7 U.S.C. 1622(n) authorizes the Secretary to conduct services and to perform activities that will facilitate the marketing and utilization of agricultural products through commercial channels. The Agricultural Marketing Service (AMS) is authorized to implement established regulations and procedures under 7 CFR part 170 for AMS to operate the U.S. Department of Agriculture (USDA) Farmers Market, specify vendor criteria and selection procedures, and define guidelines to be used for governing the USDA Farmers Market annually.

Need and Use of the Information: Information will be collected on form TM-28, “USDA Farmers Market Application.” The application was developed to ensure a uniform and fair process for deciding which farm operations are allowed to participate in the market, as well as ensure diversity of product for consumers. The Program has expanded to a year-round market. The Summer/Outdoor market season is from June through November and the Winter/Indoor market season operates from December through May. AMS will collect information to review the type of products available for sale and selecting participants for the annual market season. The information collected consists of (1) certification that the applicant is the owner or a representative of the farm or business; (2) name(s), address, telephone number and email address; (3) farm or business location; (4) types of products grown; (5) business practices; and (6) insurance coverage.

Two new forms are being included in this renewal submission. The “USDA Farmers Market Customer Satisfaction Questionnaire” to learn who our customers are and their preferences in order to improve the Farmers Market. Taught by USDA subject matter experts, free fruit and vegetable education classes called VegU take place weekly at the Farmers Market. The “VegUcation Questionnaire” will be used to learn how familiar attendees are with the featured fruit or vegetable, if they found the class valuable, and if their attendance affected their market purchases.

Description of Respondents: Business or other for-profit; Farms; Individuals.

Number of Respondents: 588.

Frequency of Responses: Reporting: Annually.

Total Burden Hours: 284.

Agricultural Marketing Service

Title: USDA Web Based Supply Chain Management System (WBSCM).

OMB Control Number: 0581-0273.

Summary of Collection: Section 32 of the Act of August 24, 1935, as amended (Section 32 Pub. L. 74-320; 7 U.S.C. 612c); Sections 6(a) and (e), 13, and 17 of the National School Lunch Act, as amended, (42 U.S.C. 1751, 1761, and 1766) in addition to several other acts authorize the Agricultural Marketing Service (AMS) Procurement Branches to prepare and issue announcements for the purchase and sale of perishable agricultural commodities. AMS purchases agricultural commodities for the Section 32 and 6a & e National School Lunch Program/Child & Adult Care Food Program; Nutrition Service Incentive Program; Food Distribution Program on Indian Reservations; Commodity Supplemental Food Program; The Emergency Food Assistance Program and Disaster Feeding in addition to providing support for commodity markets with surplus inventory.

Need and Use of the Information: AMS issues solicitation for offers in order to solicit bids for commodities for delivery to domestic nutrition assistance programs. Vendors respond by making electronic offers using the secure Web Based Supply Chain Management System (WBSCM). Vendors must be registered, and have an ID and password, in order to submit bids electronically through WBSCM via the Internet. The information will change in response to the needs of the domestic feeding programs and each solicitation. Information collected has been consolidated into three processes—a New Vendor Application, Bid Solicitation, and Contract Delivery, Invoice Submission and Inspection Results. The data collected from vendors assists AMS with making a determination whether a business is viable and capable of supplying product to the Federal government.

Description of Respondents: Business or other for profit; Farms.

Number of Respondents: 330.

Frequency of Responses: Reporting: On occasion; Weekly; Monthly; Quarterly.

Total Burden Hours: 48,376.

Agricultural Marketing Service

Title: Data Collection for Container Availability.

OMB Control Number: 0581-0276.

Summary of Collection: Section 203(g) of the Agricultural Marketing Act of 1946 (7 U.S.C. 1621-1627) directs and authorizes the collection and dissemination of marketing information including adequate outlook information, on a market area basis, for the purpose of anticipating and meeting consumer requirements aiding in the maintenance of farm income and to bring about a balance between production and utilization. As part of the Agricultural Marketing Service (AMS), the Transportation Services Division (TSD) informs, represents, and assists agricultural shippers and government policymakers through: Market reports, representation, analysis, assistance, and responses to inquiries.

Need and Use of the Information: TSD collects data for its analysis from public resources as well as unique data sources to help the agricultural exporters make the most out of the transportation options available. The Data Collection for Container Availability provides U.S. agricultural exporters with weekly data detailing the availability of containers at select locations around the country. AMS will collect these data on a voluntary basis from ocean container carriers and then provide these up-to-date data in an aggregate report on its Web site.

Description of Respondents: Business or other for-profit.

Number of Respondents: 21.

Frequency of Responses: Reporting: Weekly.

Total Burden Hours: 1,759.

Charlene Parker,
Departmental Information Collection Clearance Officer.

[FR Doc. 2017-14487 Filed 7-10-17; 8:45 am]

BILLING CODE 3410-02-P